DEPARTMENT OF LABOR

Office of the Secretary; Submission for OMB Review; Comment Request

August 30, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz (202) 219-5096 ext. 159 or by E-mail to Kurz-Karin@dol.gov). To obtain documentation for ESA, MSHA, OSHA, and VETS contact Darrin King (202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment and Training Administration.

Title: Business Confidential Data Request.

OMB Number: 1205-0197.

Affected Public: Business or other for-profit.

Form Number: ETA-9014.

Frequency: On Occasion.

Number of Respondents: 1,500.

Total Annual Responses: 1,500.

Estimated Time Per respondent: 3 Hours.

Total Burden: 4,500 Hours.

Total annualized capital/startup costs: $0.

Total annual costs (operating/maintaining systems or purchasing services): $0.

Description: Statutory requirements under the Trade Act of 1974, as amended, require business confidential data in order to make timely determinations as to whether imports have contributed to workers separations and thus eligibility for Trade Adjustment Assistance.

Type of Review: Extension of a currently approved collection.

Agency: Employment and Training Administration.

Title: Business Confidential Data Request Oil and Gas Drilling and Exploration Oilfield Services.

OMB Number: 1205-0272.

Affected Public: Business or other for-profit.

Form Number: ETA-9018.

Frequency: On Occasion.

Number of Respondents: 75.

Total Annual Responses: 75.

Estimated Time Per respondent: 3 Hours.

Total Burden: 225 Hours.

Total annualized capital/startup costs: $0.

Total annual costs (operating/maintaining systems or purchasing services): $0.

Description: Statutory requirements under the Trade Act of 1974, as amended, require business confidential data in order to make timely determinations as to whether imports have contributed to workers separations and thus eligibility for Trade Adjustment assistance.

Type of Review: Extension of a currently approved collection.

Agency: Employment and Training Administration.

Title: Customer Survey.

OMB Number: 1205-0190.

Affected Public: Business or other for-profit.

Form Number: ETA-8562.

Frequency: On Occasion.

Number of Respondents: 2,220.

Total Annual Responses: 2,220.

Estimated Time Per respondent: 107 Minutes.

Total Burden: 3,951 Hours.

Total annualized capital/startup costs: $0.

Total annual costs (operating/maintaining systems or purchasing services): $0.

Description: Information required for the Secretary of Labor to make determinations of eligibility for petitioning worker groups to apply for adjustment assistance under the Trade Act of 1974.

Type of Review: Extension of a currently approved collection.

Agency: Pension and Welfare Benefits Administration.

Title: Annual Report for Multiple Employer Welfare Arrangements (MEWA) and Certain Entities Claiming Exception (Form M-1).

OMB Number: 1210-0116.

Affected Public: Individuals and households; business or other for-profit; Not-for-profit institutions.

Form Number: Form M-1.

Frequency: Annually.

Number of Respondents: 2,678.

Total Annual Responses: 2,678.

Total Burden: 874 Hours.

Total annualized capital/startup costs: $0.

Total annual costs (operating/maintaining systems or purchasing services): $394,000.

Description: Section 101(g) (h) ¹ of the Employee Retirement Income Security Act of 1974 (ERISA) authorizes the Secretary of Labor to require annual reporting by certain multiple employer welfare arrangements for the purpose of determining the extent of their compliance with Part 7 of ERISA. Part 7 includes Group Health Plan Portability, Access, and Renewability Requirements of ERISA enacted by the Health Insurance Portability and Accountability Act of 1996 (HIPAA) and certain other statutes. HIPAA amended ERISA to provide for, among other things, improved portability and continuity of health insurance coverage. The Mental Health Parity Act of 1996 (Pub. L. 104-204) (MHPA), was enacted on September 26, 1996. MHPA amended ERISA to provide parity in the application of annual and lifetime dollar limits for certain mental health benefits with such dollar limits on medical and surgical benefits. The Newborns' and Mothers' Health Protection Act of 1996 (Pub. L. 104-204) (Newborns' Act) also was enacted on September 26, 1996. The Newborns' Act amended ERISA to provide new protections for mothers and their newborn children with regard to the length of hospital stays in connection with childbirth. The Women's Health and Cancer Rights Act of 1998 (WHCRA) (Pub. L. 105-277) was enacted on October 21, 1998. WHCRA amended ERISA to provide individuals new rights for reconstructive surgery in connection with a mastectomy. All of the foregoing provisions are set forth in Part 7 of Subtitle B of Title I of ERISA. Section 734 of ERISA authorizes the Secretary to promulgate regulations as may be necessary or appropriate to carry out the provisions of Part 7 and to promulgate any interim final rules as the Secretary determines are appropriate to carry out Part 7.

¹ Section 1421(d)(1) of the Small Business Job Protection Act of 1996 (Pub. L. 104-188) created a new section 101(g) of ERISA relating to Simple Retirement Accounts. Subsequently, section 101(e)(1) of the Health Insurance Portability and Accountability Act of 1996 (HIPAA) also created a new section 101(g) of ERISA relating to reporting by multiple employer welfare arrangements MEWA reporting, is cited here as section 101(g) {h} of ERISA.

On February 11, 2000, PWBA published an Interim Final Reporting Rule and the Annual Report for Multiple Employer Welfare Arrangements and Certain Entities Claiming Exception (Form M-1) (65 FR 7152). On that day, PWBA also published an Interim Final Rule for the Assessment of Civil Penalties under Section 502(c)(5) of ERISA and an Interim Rule Governing Procedures for Administrative Hearings Regarding the Assessment of Civil Penalties under Section 502(c)(5) of ERISA (Interim Final Penalty Rules, 65 FR 7181). The Department submitted the information collection request (ICR) included in the Interim Final Reporting Rule of OMB using emergency procedures, and received approval through August 31, 2000 under OMB control number 1210-0116. The ICR has now been submitted to OMB for an extension of this approval.

Ira L. Mills,
Departmental Clearance Officer.

[FR Doc. 00-22764 Filed 9-5-00; 8:45 am]

BILLING CODE 4510-30-M